DEPARTMENT OF THE INTERIOR

Bureau of Land Management

[LLUTC02000-L14300000.EU0000; UTU-78474]

Notice of Realty Action: Proposed Direct Sale of Public Land, Utah

AGENCY: Bureau of Land Management, Interior.

ACTION: Notice of realty action.

SUMMARY: The Bureau of Land Management (BLM) proposes to offer one parcel of land encompassing 4.82 acres in Piute County by non-competitive direct sale to Audrey Roth, pursuant to Section 203 of the Federal Land Policy and Management Act of 1976. The land has been determined suitable for disposal by sale in the BLM Richfield Field Office Resource Management Plan approved in October 2008.

DATES: Interested parties may submit comments regarding the proposed sale to the address noted below. Comments must be in writing and must be received no later than March 29, 2010. The land will not be offered for sale until at least April 12, 2010.

ADDRESSES: Written comments should be addressed to the Associate Field Manager, BLM Richfield Field Office, 150 East 900 North, Richfield, Utah 84701.

FOR FURTHER INFORMATION CONTACT: Nancy DeMille, BLM Richfield Field Office Realty Specialist, (435) 896-1515.

SUPPLEMENTARY INFORMATION: The 4.82-acre parcel proposed for sale is located approximately 2 miles southwest of Marysvale Town and is legally described as:

Salt Lake Meridian

T. 27 S., R. 4 W.,

Sec. 26, lot 4.

The area described contains 4.82 acres in Piute County.

In accordance with 43 CFR 2711.3-3(a)(5), direct sale procedures are appropriate when there is a need to resolve inadvertent unauthorized use or occupancy of the land. The land has been improved and used by the Roth family for residential purposes for many years. Improvements include a residential cabin and associated utilities and access.

The parcel is being offered to Audrey Roth of Piute County, Utah, for no less than the appraised fair market value of $55,000. Ms. Roth will be allowed 30 days from receipt of a written offer to submit either the full payment or at least 20 percent of the appraised value of the parcel and 180 days thereafter to submit the balance. Failure to meet conditions established for this sale will void the direct sale and any monies received will be forfeited.

The October 2008 BLM Richfield Field Office Resource Management Plan identifies this parcel of public land as suitable for disposal through sale, and it has been determined that no significant resource values will be affected by disposal of the parcel. The land is not required for any Federal purpose.

The following rights, reservations, and conditions will be included in the patent that may be issued for the above described parcel of land:

1. A reservation to the United States for a right-of-way for ditches and canals constructed by the authority of the United States, Act of August 30, 1890 (43 U.S.C. 945).

2. A reservation to the United States for all minerals in the land in accordance with Section 209 of the Federal Land Policy and Management Act of 1976 (43 U.S.C. 1719).

3. A reservation to the United States for the road right-of-way under 44 L.D. 513 (UTU-25688) and all appurtenances thereto, constructed by the United States through, over, or upon the land so patented, and the right of the United States, its agents or employees, to maintain, operate, repair or improve the same so long as needed or used for or by the United States.

4. The patent will include a notice and indemnification statement under the Comprehensive Environmental Response Compensation and Liability Act. The parcel is subject to the requirements of Section 120(h) (42 U.S.C. Section 9620) holding the United States harmless from any release of hazardous materials that may have occurred as a result of the unauthorized use of the property by other parties. No warranty of any kind, express or implied, is given by the United States as to the title, physical condition or potential uses of the parcel of land proposed for sale.

5. Subject to such rights as Marysvale Town or its successors in interest may have for culinary water system storage tank, pipeline and access road purposes pursuant to right-of-way UTU-83158, including the right to increase the term of the right-of-way to a perpetual term in accordance with 43 CFR 2807.15.

6. Subject to such rights as Bullion Creek Irrigation or its successors in interest may have for roadway, pipeline and ditch purposes pursuant to right-of-way UTU-80707.

7. All valid existing rights.

Detailed information concerning the sale, including the appraisal, planning and environmental documents, and mineral report is available for review at the BLM Richfield Field Office at the address noted above.

On February 10, 2010, the above described land will be segregated from all forms of appropriation under the public land laws, including location and entry under the United States mining laws, except the sale provisions of the Federal Land Policy and Management Act of 1976 (43 U.S.C. 1713). The BLM is no longer accepting land use applications affecting the identified public land. The effect of segregation will terminate upon: (1) Issuance of a patent; (2) publication in the Federal Register of a termination of the segregation; or (3) on February 10, 2012, unless extended by the BLM State Director in accordance with 43 CFR 2711.1-2(d) prior to the termination date. Audrey Roth will be allowed 30 days from receipt of a written offer to submit either full payment or at least 20 percent of the appraised value of the parcel and within 180 days, thereafter, submit the balance. If the balance of the purchase price is not received within the 180 days, the deposit will be forfeited to the United States and the parcel withdrawn from sale.

Public Comments: Comments must be received by the Associate Field Manager, BLM Richfield Field Office, at the address noted above, on or before March 29, 2010. Only written comments will be accepted. Before including your address, phone number, e-mail address, or other personal identifying information in your comments, you should be aware that your entire comment—including your personal identifying information—may be made publicly available at any time. While you can ask us in your comments to withhold your personal identifying information from public review, we cannot guarantee that we will be able to do so. Any adverse comments received will be reviewed by the BLM Utah State Director, who may sustain, vacate, or modify this realty action. In the absence of any objections, or adverse comments, this proposed realty action will become the final determination of the Department of the Interior.

Authority: 43 CFR 2711.

Selma Sierra,
State Director.

[FR Doc. 2010-2854 Filed 2-9-10; 8:45 am]

BILLING CODE 4310-DQ-P